ENVIRONMENTAL PROTECTION AGENCY

[OW-FRL-6987-2]

Beaches Environmental Assessment and Coastal Health Act

AGENCY: Environmental Protection Agency.

ACTION: Notice of Availability of Grants for Development of Coastal Recreation Water Monitoring and Public Notification Under the Beaches Environmental Assessment and Coastal Health Act.

SUMMARY: The Beaches Environmental Assessment and Coastal Health Act (BEACH Act) signed into law on October 10, 2000, amends the Clean Water Act (CWA) to reduce the risk of disease to users of the Nation's recreational waters. The BEACH Act authorizes the U.S. Environmental Protection Agency (EPA) to award program development and implementation grants to eligible States, Territories, Tribes, and local governments to support microbiological testing and monitoring of coastal recreation waters, including the Great Lakes, that are adjacent to beaches or similar points of access used by the public. BEACH Act grants also provide support for development and implementation of programs to notify the public of the potential exposure to disease-causing microorganisms in coastal recreation waters. EPA is now encouraging coastal States and Territories to apply for BEACH Act Grants for Program Development (referred to as Development Grants) to develop effective and comprehensive coastal recreation water monitoring and public notification programs.

DATES: Submit your application on or before July 30, 2001.

ADDRESSES: You must send your application to the appropriate Regional Grant Coordinator listed in this notice under SUPPLEMENTARY INFORMATION section VII.

FOR FURTHER INFORMATION CONTACT: Charles Kovatch, 202-260-3754.

SUPPLEMENTARY INFORMATION:

I. Grant Program

What Is the Statutory Authority for the Development Grants?

The statutory authority for BEACH grants section 406(b) of the Clean Water Act as amended by the BEACH Act, Public Law 106-284, 114 Stat. 970 (2000). It provides in part: “The Administrator may make grants to States and local governments to develop and implement programs for monitoring and notification for coastal recreation waters adjacent to beaches or similar points of access that are used by the public.”

What Activities Are Eligible for Funding Under the Development Grants in Fiscal Year 2001?

In Fiscal Year 2001, EPA intends to award grants authorized under the BEACH Act to support the development of coastal recreation water monitoring and public notification programs. The BEACH Act requires EPA to publish performance criteria for monitoring and notification of coastal recreation waters by April 2002. EPA expects to publish performance criteria for implementation of coastal recreation water monitoring and public notification programs in October 2001. In fiscal year 2002 and beyond, if funds are appropriated to support this program, EPA expects to make grants to also support implementation of monitoring and notification programs that are consistent with EPA's performance criteria.

II. Funding and Eligibility

Who Is Eligible to Apply for Development Grant Funds Under This Federal Register Notice?

Coastal and Great Lake States are eligible for Development Grants to develop and implement monitoring and notification programs. The term “State” is defined in section 502 of the Clean Water Act to include the District of Columbia, the Commonwealth of Puerto Rico, the Virgin Islands, Guam, American Samoa, the Commonwealth of the Northern Mariana Islands, and the Trust Territory of the Pacific Islands. However, the Trust Territory of the Pacific Islands no longer exists. The Marshall Islands, the Federated States of Micronesia, and Palau, which were previously entities within the Trust Territory of the Pacific Islands, have entered into Compacts of Free Association with the Government of the United States. As a result, each is now a sovereign, self-governing entity and, as such, is no longer eligible to receive grants as a Territory or possession of the United States.

Are Local Governments Eligible for Funding?

The BEACH Act authorizes EPA to make a grant to a local government for implementation of a monitoring and notification program only if, after the 1-year period beginning on the date of publication of performance criteria, EPA determines that the State is not implementing a program that meets the requirements of the statute. EPA expects to publish performance criteria in October 2001, and therefore expects October 2002 as the earliest date for local governments to be eligible for beach grants.

Are Tribal Governments Eligible for Funding?

Section 518(e) of the CWA authorizes EPA to treat eligible Indian tribes in the same manner as States for the purpose of receiving CWA section 406 grant funding. EPA is developing a rule that would establish procedures for Indian tribes to apply for eligibility for funding under the BEACH Act. The rule would contain the statutory criteria for Indian tribes to be treated in the same manner as a State and indicate how a tribe is to apply for such treatment. The rule would facilitate the award of funding to Indian tribes that qualify under this new CWA program. EPA plans to publish the rule as an interim final regulation in the Federal Register by the end of this calendar year. Indian tribes could begin to apply to the appropriate Regional Administrator for treatment in the same manner as a State under the rule as early as 30 days after the publication date. EPA expects to accept grant applications for tribes in Fiscal Year 2002.

How Much Funding Is Available?

For Fiscal Year 2001, EPA expects to award approximately $2 million in Development Grants to eligible States and Territories.

How Will the Funding Be Allocated?

For the first year only, EPA expects to award Development Grants in equal amounts to all eligible States and Territories who apply for funding. EPA selected the equal amount allocation because this is the simplest and quickest way to award grants while being fair to all applicants and avoiding complex allocation formulas. The size of the award will depend on the number of applicants. If all 35 eligible States and Territories apply, the awards are expected to range between $50,000 to $60,000. However, if fewer than 35 States and Territories apply, then the grant awards will be divided among the number of applicants, thus awarding larger grants.

What is the Expected Duration of the Funding and Project Periods?

The expected funding and project period for Development Grants awarded in FY 2001 is one year.

Are Matching Funds Required?

Recipients are not required to provide matching funds for Development Grants awarded under authority of the BEACH Act at this time.

III. Grant Condition

Section 406(c) of the BEACH Act requires that as a condition of receipt of a Development Grant, recipients identify:

(1) lists of coastal recreation waters in the State, including coastal recreation waters adjacent to beaches or similar points of access that are used by the public;

(2) in the case of a State program for monitoring and notification, the process by which the State may delegate to local governments responsibility for implementing the monitoring and notification program;

(3) the frequency and location of monitoring and assessment of coastal recreation waters based on: (A) The periods of recreational use of the waters; (B) the nature and extent of use during certain periods; (C) the proximity of the waters to known point sources and nonpoint sources of pollution; and (D) any effect of storm events on the waters;

(4) (A) the methods to be used for detecting levels of pathogens and pathogen indicators that are harmful to human health; and (B) the assessment procedures for identifying short-term increases in pathogens and pathogen indicators that are harmful to human health in coastal recreation waters (including increases in relation to storm events);

(5) measures for prompt communication of the occurrence, nature, location, pollutants involved, and extent of any exceeding of, or likelihood of exceeding, applicable water quality standards for pathogens and pathogen indicators to: (A) the Administrator, in such form as the Administrator determines to be appropriate; and (B) a designated official of the local government having jurisdiction over land adjoining the coastal recreation waters for which the failure to meet applicable standards is identified;

(6) measures for the posting of signs at beaches or similar points of access, or functionally equivalent communication measures that are sufficient to give notice to the public that the coastal recreation waters are not meeting or are not expected to meet applicable water quality standards for pathogens and pathogen indicators; and

(7) measures that inform the public of the potential risks associated with water contact activities in the coastal recreation waters that do not meet applicable water quality standards.

IV. Additional Eligible Activities

Recipients may use funds for activities in support of developing a beach monitoring and notification program, including:

(1) activities to comply with the grant conditions specified in section III above;

(2) quality assurance and quality control (QA/QC) procedures consistent with the requirements under 40 CFR 31.45; to develop and implement QA/QC practices for environmentally related measurements or data generation sufficient to produce data of quality adequate to meet project objectives and to minimize loss of data due to out-of-control conditions or malfunctions;

(3) data quality objectives (DQOs), quality assurance project plan (QAPP) and standard operating procedures (SOPs) that clarify study objectives, define the appropriate type of data, and specify tolerable levels of potential decision errors that will be used as the basis for establishing the quality and quantity of data needed to support decisions.

V. Selection Process

What Criteria Will Be Used To Evaluate Applications and Award Development Grants?

Development Grants will be awarded through a non-competitive process by the EPA Regional offices. EPA expects to award grants to all eligible State and Territory applicants that meet requirements of the BEACH Act as described in this notice.

Who Has the Authority To Award Development Grants?

The Administrator has delegated the authority to award Development Grants to the Regional Administrators.

VI. Application Procedure

What Is the Catalog of Federal Domestic Assistance (CFDA) Number for the BEACH Program Development Grant?

The number assigned to the Development Grants is 66.472, Program Code CU.

May the Development Grants Be Included as Part of the Performance Partnership Grants Program?

For Fiscal Year 2001, Development Grants cannot be included in a Performance Partnership Grant.

What Are the Components of the Application Package?

The application package should contain completed EPA SF-424 Application for Federal Assistance and be submitted to the appropriate EPA Regional Office by July 30, 2001. Contact the appropriate EPA Regional Office for a complete application package. See section VII for a list of EPA Regional Grant Coordinators or visit the Beach Watch Website at www.epa.gov/ost/beaches on the Internet.

What Regulations Will Govern the Award and Administration of Development Grants?

Development Grants will be awarded and administered according to the regulations at 40 CFR part 31 (“Uniform Administrative Requirements for Grants and Cooperative Agreements to State and Local Governments”).

Will Quality Assurance and Quality Control (QA/QC) and Other Procedures Be Required for Application?

No. A QA/QC plan is not required for the application, however under 40 CFR 31.45 a QA/QC plan is required for any environmentally related measurements or data generation (e.g. monitoring) performed under the grant. (See section IV of this document).

Will There Be Reporting Requirements?

Recipients must submit annual performance reports on the progress of the program development, as required in sections 31.40 and 31.41.

VII. Grant Coordinators

Grant Coordinators:

Headquarters—Washington DC

Charles Kovatch USEPA, 1200 Pennsylvania Ave. NW—4305, Washington DC 20460; T:202-260-3754; F: 202-260-9830; kovatch.charles@epa.gov

Region I—Connecticut, Maine, Massachusetts, New Hampshire, Rhode Island

Matt Liebman USEPA Region 1, One Congress St. Ste. 1100—CWQ, Boston, MA 02114-2023; T:617-918-1626; F: 617-918-1505; liebman.matt@epa.gov

Region II—New Jersey, New York, Puerto Rico, U.S. Virgin Islands

Richard Coleates USEPA Region 2, 2890 Woodbridge Ave. MS220, Edison, NJ 08837-3679; T: 732-321-6662; F: 732-321-6616; coleates.richard@epa.gov

Region III—Delaware, Maryland, Pennsylvania, Virginia

Nancy Grundahl USEPA Region 3, 1650 Arch Street 3ES10, Philadelphia, PA 19103-2029; T: 215-814-2729; F:215-814-2782; grundahl.nancy@epa.gov

Region IV—Alabama, Florida, Georgia, Mississippi, North Carolina, South Carolina

Joel Hansel USEPA Region 4, 61 Forsyth St. 15th Floor, Atlanta, GA 30303-3415; T: 404-562-9274; F: 404-562-9224; hansel.joel@epa.gov

Region V—Illinois, Indiana, Michigan, Minnesota, Ohio, Wisconsin

Holly Wirick USEPA Region 5, 77 West Jackson Blvd. WT-16J, Chicago, IL 60604-3507; T: 312-353-6704; F: 312-886-0168; wirick.holiday@epa.gov

Region VI—Louisiana, Texas

Mike Schaub USEPA Region 6, 1445 Ross Ave. 6WQ-EW, Dallas, TX 75202-2733; T: 214-665-7314; F: 214-665-6689; schaub.mike@epa.gov

Region IX—American Soma, Commonwealth of the Northern Mariana Islands, California, Guam, Hawaii

Terry Fleming USEPA Region 9, 75 Hawthorne St. WTR-2, San Francisco, CA 94105; T: 415-744-1939; F: 415-744-1078; fleming.terrence@epa.gov

Region X—Alaska, Oregon, Washington

Pat Cirone USEPA Region 10, 120 Sixth Ave. OW-134, Seattle, WA 98101; T: 206-553-1597; F: 206-553-0165; cirone.patricia@epa.gov

Dated: May 22, 2001.
Diane C. Regas,
Acting Assistant Administrator of Water.

[FR Doc. 01-13509 Filed 5-29-01; 8:45 am]

BILLING CODE 6560-50-U